DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Highly Migratory Species Permit Family of Forms.

OMB Control Number: 0648-0327.

Form Number(s): NA.

Type of Request: Regular submission (revision and extension of a current information collection).

Number of Respondents: 37,177.

Average Hours per Response: Initial vessel permit applications, 30 minutes; renewals, 6 minutes; initial dealer permits, 15 minutes; renewals, 5 minutes.

Burden Hours: 9,801.

Needs and Uses: This request is for revision and extension of a current information collection.

Under the provisions of the Magnuson-Stevens Fishery Conservation and Management Act (16 U.S.C. 1801 et seq.), the National Marine Fisheries Service (NMFS) is responsible for management of the nation's marine fisheries. In addition, NMFS must comply with the United States' obligations under the Atlantic Tunas Convention Act of 1975 (16 U.S.C. 971 et seq.). NMFS issues permits to fishing vessels and dealers in order to collect the information necessary to comply with domestic and international obligations, secure compliance with regulations, and disseminate necessary information.

Current regulations at 50 CFR 635.4 require that vessels participating in commercial and recreational fisheries for Atlantic highly migratory species (HMS) and dealers purchasing Atlantic HMS from a vessel, obtain a Federal permit issued by NMFS. Current regulations at 50 CFR 300.182 require that individuals entering for consumption (importing into the Customs territory of the United States or the separate customs territory of a U.S. insular possession, for domestic use), exporting, or re-exporting consignments of bluefin tuna, southern bluefin tuna, swordfish, or frozen bigeye tuna obtain an HMS International Trade Permit (ITP) from NMFS. This action addresses the renewal of permit applications currently approved under this collection, including both vessel and dealer permits. Vessel permits include Atlantic tunas, HMS charter/headboats, HMS angling, smoothhound sharks, and incidental HMS squid trawl permits. Dealer permits include Atlantic tunas dealer permits and the HMS ITP.

Revision: Shark and swordfish dealer and vessel permits were found to be included also in OMB Control No. 0648-0205, Southeast Region Permit Family of Forms, and will be removed from this information collection. There have also been reductions in some permit fees.

Affected Public: Business or other for-profit organizations.

Frequency: Annually.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: March 23, 2012.
Gwellnar Banks,
Management Analyst, Office of the Chief Information Officer.

[FR Doc. 2012-7467 Filed 3-27-12; 8:45 am]

BILLING CODE 3510-22-P